DEPARTMENT OF TRANSPORTATION

Federal Aviation Administration

14 CFR Part 39

[Docket No. FAA-2008-1215; Directorate Identifier 2008-NM-072-AD; Amendment 39-16077; AD 2009-23-05]

RIN 2120-AA64

Airworthiness Directives; Airbus Model A318-111, -112, A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Two incidents have occurred due to the lack of visibility on the Primary Flight Display (PFD) of the Traffic Alert and Collision Avoidance System (TCAS) indications.

* * * * *

We are issuing this AD to prevent possible mid-air collisions due to lack of visibility of TCAS indications on the PFD. We are issuing this AD to require actions to correct the unsafe condition on these products.

DATES: This AD becomes effective December 14, 2009.

The Director of the Federal Register approved the incorporation by reference of a certain publication listed in this AD as of December 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149

SUPPLEMENTARY INFORMATION:

Discussion

We issued a notice of proposed rulemaking (NPRM) to amend 14 CFR part 39 to include an AD that would apply to the specified products. That NPRM was published in the Federal Register on November 17, 2008 (73 FR 67813). That NPRM proposed to correct an unsafe condition for the specified products. The MCAI states:

Two incidents have occurred due to the lack of visibility on the Primary Flight Display (PFD) of the Traffic Alert and Collision Avoidance System (TCAS) indications.

EIS2 [electronic instrument system 2] standard S7 introduces modifications to the vertical speed indication to improve the legibility in case of TCAS Resolution Advisory.

The modifications consist in changing the colour of the needle and increasing the width of the TCAS green band.

This AD supersedes [EASA] AD 2006-0108 [dated May 3, 2006]. Also, as all aircraft in this AD applicability have been retrofitted to at least S4.2 standard, the operational limitations contained in the Compliance paragraph 2. of AD 2006-0108 have already been addressed.

This AD therefore mandates the installation of the improved EIS2 standard S7.

We are issuing this AD to prevent possible mid-air collisions due to lack of visibility of TCAS indications on the PFD. You may obtain further information by examining the MCAI in the AD docket.

Comments

We gave the public the opportunity to participate in developing this AD. We considered the comments received.

Support for the AD

The Air Line Pilots Association, International (ALPA), fully supports the intent of the AD.

Request To Revise Applicability

Airbus requests that we remove the reference to Airbus Service Bulletin A320-31-1234 from paragraph (c), “Applicability,” of the NPRM. Airbus explains that only airplanes that are equipped with EIS2 standard 4.2 installed by Modification 34571 or Airbus Service Bulletin A320-31A1220 have the unsafe condition identified in the NPRM; airplanes equipped with EIS2 standard 4 installed in accordance with Airbus Service Bulletin A320-31-1234 are not affected by the unsafe condition. Airbus also explains that there are some “anti” modifications existing to retrieve EIS1 configuration which do not have this unsafe condition identified in the NPRM and should be excluded from the applicability.

We agree with the request to revise the applicability of the AD. We have revised paragraph (c) of this AD to remove the reference to Airbus Service Bulletin A320-31-1234. We have also revised paragraph (c) of this AD to specify that airplanes on which Airbus Modification 35270 has been incorporated are excluded from the requirements of this AD.

Request To Use Alternative Stowage Method

Frontier Airlines requests that we revise the NPRM to specify that operators may stow software media in locations other than those described in the service bulletin. Frontier points out that it does not store loadable software media in the cockpit in the way implied by Airbus Mandatory Service Bulletin A320-31-1276, Revision 01, dated March 5, 2008. (We referred to Airbus Mandatory Service Bulletin A320-31-1276, Revision 01, dated March 5, 2008, in the NPRM as the appropriate source of service information for accomplishing the required actions.)

We agree with the request to revise the AD to allow different stowage locations for software media. We have changed paragraph (f)(1) of the AD to indicate that operators may stow software media in locations other than those described in the service bulletin. We have coordinated this issue with the European Aviation Safety Agency (EASA).

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 113 products of U.S. registry. We also estimate that it will take about 4 work-hours per product to comply with the basic requirements of this AD. The average labor rate is $80 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $36,160, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-23-05 Airbus: Amendment 39-16077. Docket No. FAA-2008-1215; Directorate Identifier 2008-NM-072-AD.

Effective Date

(a) This airworthiness directive (AD) becomes effective December 14, 2009.

Affected ADs

(b) None.

Applicability

(c) This AD applies to Airbus Model A318-111, A318-112, A319-111, A319-112, A319-113, A319-114, A319-115, A319-131, A319-132, A319-133, A320-111, A320-211, A320-212, A320-214, A320-231, A320-232, A320-233, A321-111, A321-112, A321-131, A321-211, A321-212, A321-213, A321-231, and A321-232 series airplanes, certificated in any category; equipped with EIS2 (electronic instrument system 2) standard S4.2 (DMC disk part number F1419418) installed by Airbus Modification 34571, or Airbus Service Bulletin A320-31A1220; except those airplanes on which Airbus Modification 35270 or Airbus Modification 36725 has been embodied in production.

Subject

(d) Air Transport Association (ATA) of America Code 31: Instruments.

Reason

(e) The mandatory continuing airworthiness information (MCAI) states:

Two incidents have occurred due to the lack of visibility on the Primary Flight Display (PFD) of the Traffic Alert and Collision Avoidance System (TCAS) indications.

EIS2 standard S7 introduces modifications to the vertical speed indication to improve the legibility in case of TCAS Resolution Advisory.

The modifications consist in changing the colour of the needle and increasing the width of the TCAS green band.

This AD supersedes AD 2006-0108 [dated May 3, 2006]. Also, as all aircraft in this AD applicability have been retrofitted to at least S4.2 standard, the operational limitations contained in the Compliance paragraph 2. of AD 2006-0108 have already been addressed.

This AD therefore mandates the installation of the improved EIS2 standard S7.

We are issuing this AD to prevent possible mid-air collisions due to lack of visibility of TCAS indications on the PFD.

Actions and Compliance

(f) Unless already done, do the following actions.

(1) Within 12 months after the effective date of this AD, install EIS2 standard S7 (DMC disk part number F1461768), in accordance with the Accomplishment Instructions of Airbus Mandatory Service Bulletin A320-31-1276, Revision 01, dated March 5, 2008. Operators may stow software media in locations other than those described in the service bulletin.

(2) Installations done before the effective date of this AD in accordance with Airbus Service Bulletin A320-31-1263, Revision 01, dated July 20, 2007; Airbus Service Bulletin A320-31-1263, Revision 02, dated August 10, 2007; Airbus Service Bulletin A320-31-1263, Revision 03, dated November 23, 2007; or Airbus Service Bulletin A320-31-1276, dated April 18, 2007; are acceptable for compliance with the requirements of paragraph (f)(1) of this AD.

FAA AD Differences

Note 1: This AD differs from the MCAI and/or service information as follows: This AD does not include the operational limitations specified in paragraph 1 of the MCAI. The MCAI carried these limitations forward from European Aviation Safety Agency (EASA) Airworthiness Directive 2006-0108, dated May 3, 2006. The FAA-approved Master Minimum Equipment List (MMEL) already contains these and more restrictive operational limitations, and we previously determined that no action was required on our part regarding this provision of EASA AD 2006-0108.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tim Dulin, Aerospace Engineer, ANM-116, International Branch, Transport Airplane Directorate, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2008-0032, dated February 21, 2008; and Airbus Mandatory Service Bulletin A320-31-1276, Revision 01, dated March 5, 2008; for related information.

Material Incorporated by Reference

(i) You must use Airbus Mandatory Service Bulletin A320-31-1276, Revision 01, dated March 5, 2008, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on October 26, 2009.
Stephen P. Boyd,
Acting Manager, Transport Airplane Directorate, Aircraft Certification Service.

[FR Doc. E9-26586 Filed 11-6-09; 8:45 am]

BILLING CODE 4910-13-P